DEPARTMENT OF COMMERCE

Foreign-Trade Zones Board

[B-47-2012]

Foreign-Trade Zone 74—Baltimore, MD, Authorization of Production Activity, J.D. Neuhaus LP, (Overhead Lifting Equipment Production), Sparks, MD

On June 13, 2012, the Baltimore Development Corporation, grantee of FTZ 74, submitted a notification of proposed production activity on behalf of J.D. Neuhaus LP, located in Sparks, Maryland.

The notification was processed in accordance with the regulations of the FTZ Board (15 CFR part 400), including notice in the Federal Register inviting public comment (77 FR 39209, 7/2/2012). The FTZ Board has determined that no further review of the activity is warranted at this time. The production activity described in the notification is authorized, subject to the FTZ Act and the Board's regulations, including Section 400.14.

Dated: October 11, 2012.
Elizabeth Whiteman,
Acting Executive Secretary.

[FR Doc. 2012-25476 Filed 10-15-12; 8:45 am]

BILLING CODE P